DEPARTMENT OF JUSTICE

[OMB Number 1190-0009]

Agency Information Collection Activities; Proposed eCollection eComments Requested; Extension With Change, of a Previously Approved Collection Americans With Disabilities Act Discrimination Complaint Form

AGENCY: Civil Rights Division, Department of Justice.

ACTION: 60-day notice.

SUMMARY: The Department of Justice (DOJ), Civil Rights Division, Disability Rights Section, has submitted the following information collection request to the Office of Management and Budget (OMB) for review and approval in accordance with the Paperwork Reduction Act of 1995.

DATES: Comments are encouraged and will be accepted for 60 days until April 27, 2015.

FOR FURTHER INFORMATION CONTACT: If you have additional comments especially on the estimated public burden or associated response time, suggestions, or need a copy of the proposed information collection instrument with instructions or additional information, please contact Rebecca Bond, Chief, Disability Rights Section, Civil Rights Division, by calling (800) 514-0301 or (800) 514-0383 (TTY) (the Division's Information Line), or write her at the Department of Justice, Civil Rights Division, Disability Rights Section—NYA, 950 Pennsylvania Avenue NW., Washington, DC 20530.

SUPPLEMENTARY INFORMATION: Written comments and suggestions from the public and affected agencies concerning the proposed collection of information are encouraged. Your comments should address one or more of the following four points:

—Evaluate whether the proposed collection of information is necessary for the proper performance of the function of the agency, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Americans with Disabilities Act Discrimination Complaint Form.

3. The agency form number, if any, and the applicable component of the Department sponsoring the collection: No form number. The applicable component within the Department of Justice is the Disability Rights Section in the Civil Rights Division.

4. Affected public who will be asked to respond, as well as a brief abstract: Primary: Individuals alleging discrimination by public entities based on disability. Under title II of the Americans with Disabilities Act, an individual who believes that he or she has been subjected to discrimination on the basis of disability by a public entity may, by himself or herself or by an authorized representative, file a complaint. Any Federal agency that receives a complaint of discrimination by a public entity is required to review the complaint to determine whether it has jurisdiction under section 504 of the Rehabilitation Act. If the agency does not have jurisdiction, it must determine whether it is the designated agency responsible for complaints filed against that public entity. If the agency does not have jurisdiction under section 504 of the Rehabilitation Act and is not the designated agency, it must refer the complaint to the Department of Justice. The Department of Justice then must refer the complaint to the appropriate agency.

5. An estimate of the total number of respondents and the amount of time estimated for an average respondent to respond: An estimated 9,100 respondents per year at 0.50 hours per complaint form.

6. An estimate of the total public burden (in hours) associated with the collection: The estimated public burden associated with this collection is 4550 hours. It is estimated that respondents will take 0.50 hour to complete the questionnaire. The burden hours for collecting respondent data sum to 4550 hours (9100 respondents × 0.50 hours = 4550 hours).

If additional information is required contact: Jerri Murray, Department Clearance Officer, United States Department of Justice, Justice Management Division, Policy and Planning Staff, Two Constitution Square, 145 N Street NE., 3E.405B, Washington, DC 20530.

Dated: February 23, 2015.
Jerri Murray,
Department Clearance Officer for PRA, U.S. Department of Justice.

[FR Doc. 2015-03975 Filed 2-25-15; 8:45 am]

BILLING CODE 4410-13-P